DEPARTMENT OF JUSTICE

Notice of Lodging of Settlement Agreement Under the Comprehensive Environmental Response, Compensation, and Liability Act

Notice is hereby given that on October 4, 2011, a proposed Settlement Agreement in the bankruptcy matter In re DPH Holdings Corp., et al., Jointly Administered Case No. 05-44481 (RDD), was filed with the United States Bankruptcy Court for the Southern District of New York. The Settlement Agreement between the United States and DPH Holdings Corp., f/k/a Delphi Corp., and its affiliated reorganized debtors (“Reorganized Debtors”) resolves claims and causes of action of the United States on behalf of the Environmental Protection Agency (“EPA”) against debtor Delphi Automotive Systems LLC n/k/a DPH-DAS LLC under the Comprehensive Environmental Response, Compensation, and Liability Act of 1980, as amended, 42 U.S.C 9601-75 (“CERCLA”), and Section 7003 of the Resource Conservation and Recovery Act (“RCRA”), 42 U.S.C. 6973, with respect to the Tremont City Landfill Superfund Site in Tremont City, Ohio (“Tremont Site”), and the South Dayton Dump & Landfill Superfund Site in Moraine, Ohio (“South Dayton Site”).

Under the Settlement Agreement, the United States, on behalf of EPA, will have an allowed claim of $857,582.52. The allowed claim shall be allocated as an allowed claim of $559,292.95 for the Tremont Site and an allowed claim of $298,289.57 for the South Dayton Site. The effectiveness of the settlement is subject to the approval of a potential settlement of a tax refund action, Delphi Corp., et al. v. United States, Case No. 08 Civ. 4487 (PKC) (the “Tax Refund Action”), pending in the United States District Court for the Southern District of New York. If the Tax Refund Action settlement is approved, the allowed claim of $857,582.52 shall be applied as a setoff against the refund that would be owed to the Reorganized Debtors. Pursuant to the Settlement Agreement, the Debtors and Reorganized Debtors will receive a covenant not to sue from the United States on behalf of EPA for the sites identified in this Notice, i.e., the Tremont Site and South Dayton Site.

Comments relating to the Settlement Agreement must be received by the Department of Justice no later than fourteen (14) days from the date of this publication. Comments should be addressed to the Assistant Attorney General, Environment and Natural Resources Division, and either e-mailed to pubcomment-ees.enrd@usdoj.gov or mailed to P.O. Box 7611, U.S. Department of Justice, Washington, D.C. 20044-7611, and should refer to In re DPH Holdings Corp., D.J. Ref. _90-11-3-08913. Commenters may request an opportunity for a public meeting in the affected area, in accordance with Section 7003(d) of RCRA, 42 U.S.C. 6973(d).

The Settlement Agreement may be examined at the Office of the United States Attorney, 86 Chambers Street, 3rd Floor, New York, New York 10007, and at the U.S. Environmental Protection Agency, Ariel Rios Building, 1200 Pennsylvania Avenue, NW., Washington, DC 20460. During the public comment period, the Settlement Agreement may also be examined on the following Department of Justice Web site, http://www.usdoj.gov/enrd/Consent_Decrees.html. A copy of the Settlement Agreement also may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.50 (25 cents per page reproduction cost) payable to the U.S. Treasury or, if by e-mail or fax, forward a check in that amount to the Consent Decree Library at the stated address.

Maureen M. Katz,
Assistant Chief, Environmental Enforcement Section, Environment and Natural Resources Division.

[FR Doc. 2011-26037 Filed 10-6-11; 8:45 am]

BILLING CODE 4410-15-P